DEPARTMENT OF ENERGY

Federal Energy Regulatory Commission

[Docket Nos. CP03-33-000, CP03-35-000 and CP03-79-000]

Wyckoff Gas Storage Company, LLC; Notice of Public Meeting

July 14, 2003.

The staff of the Federal Energy Regulatory Commission will conduct a meeting with Wyckoff Gas Storage Company, LLC (Wyckoff) and any other interested persons to discuss a new proposal by Wyckoff to file an application for an exemption under section 7(c) of the Natural Gas Act to drill two confirmation wells at the location of its proposed Storage Project in Steuben County, New York.

Wyckoff's application for a certificate to construction and operate the Storage Project is pending in Docket No. CP03-33-000, et al. Wyckoff will seek exemption authority to drill the two confirmation wells for purposes of conducting various geologic tests to confirm the commercial feasability of developing its Storage Project in the target reservoirs. It proposes to ask the Commission to grant such authorization by the end of August 2003 so that it can commence drilling operations the first week of September 2003.

All interested parties may attend. Interested parties can meet staff and Wyckoff's representatives on July 21, 2003, at 10:00 a.m., in Room No. 62-26, at the Federal Energy Regulatory Commission, 888 First Street, NE., Washington, DC 20426.

For further information, please contact the Office of External Affairs at (202) 208-1088.

Magalie R. Salas,
Secretary.

[FR Doc. 03-18308 Filed 7-17-03; 8:45 am]

BILLING CODE 6717-01-P